DEPARTMENT OF EDUCATION

[Docket ID ED-2022-OPEPD-0155]

Request for Information Regarding Higher Education Act (HEA) Pooled Evaluation; Correction

AGENCY: Office of Planning, Evaluation and Policy Development, Department of Education.

ACTION: Request for information; correction.

SUMMARY: On December 19, 2022, the Department of Education published in the Federal Register a request for information regarding HEA pooled evaluation. We are correcting the docket ID provided in that notice. All other information in the request for information, including the February 17, 2023, deadline for public comments, remains the same.

DATES: We must receive your comments on or before February 17, 2023.

FOR FURTHER INFORMATION CONTACT: John English, U.S. Department of Education, 400 Maryland Avenue SW, Room 6W306, Washington, DC 20202. Telephone: (202) 260-5787. Email: john.english@ed.gov.

If you are deaf, hard of hearing, or have a speech disability and wish to access telecommunications relay services, please dial 7-1-1.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

SUPPLEMENTARY INFORMATION:

Correction

In FR Doc. No. 2022-27474, in the Federal Register published on December 19, 2022 (87 FR 77563), we make the following correction:

On Page 77563, in the third column, above the title of the Federal Register notice, Request for Information on the Higher Education Act (HEA) Pooled Evaluation, revise the docket ID to read: ED-2022-OPEPD-0155.

Roberto Rodriguez,
Assistant Secretary, Office of Planning, Evaluation and Policy Development.

[FR Doc. 2023-00321 Filed 1-12-23; 8:45 am]

BILLING CODE 4000-01-P